DEPARTMENT OF DEFENSE

Office of the Secretary

[Docket ID: DOD-2011-OS-0034]

Privacy Act of 1974; System of Records

AGENCY: Defense Logistics Agency, DoD.

ACTION: Notice to amend a system of records.

SUMMARY: The Defense Logistics Agency is proposing to amend a system of records notice in its existing inventory of record systems subject to the Privacy Act of 1974 (5 U.S.C. 552a), as amended.

DATES: The proposed action will be effective without further notice on April 14, 2011 unless comments are received which would result in a contrary determination.

ADDRESSES: You may submit comments, identified by docket number and/Regulatory Information Number (RIN) and title, by any of the following methods:

• Federal Rulemaking Portal: http://www.regulations.gov. Follow the instructions for submitting comments.

• Mail: Federal Docket Management System Office, 1160 Defense Pentagon, OSD Mailroom 3C843, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Ms. Jody Sinkler at (703) 767-5045, or the Privacy Act Officer, Headquarters Defense Logistics Agency, ATTN: DGA, 8725 John J. Kingman Road, Suite 1644, Fort Belvoir, VA 22060-6221.

SUPPLEMENTARY INFORMATION: The Defense Logistics Agency's system of record notices subject to the Privacy Act of 1974 (5 U.S.C. 552a), as amended, have been published in the Federal Register and are available from the FOR FURTHER INFORMATION CONTACT address above. The specific changes to the record system being amended are set forth below followed by the notice, as amended, published in its entirety. The proposed amendment is not within the purview of subsection (r) of the Privacy Act of 1974 (5 U.S.C. 552a), as amended, which requires the submission of new or altered systems reports.

Dated: March 10, 2011.
Morgan F. Park,
Alternate OSD Federal Register Liaison Officer, Department of Defense.

S190.32

System name:

Public Affairs Subscription Mailing Lists (May 26, 2009, 74 FR 24831).

Changes:

* * * * *

System location:

Delete entry and replace with “Headquarters, Defense Logistics Agency (DLA), Public Affairs Office, 8725 John J. Kingman Road, Stop 2533, Fort Belvoir, VA 22060-6221, and the Public Affairs Offices of the DLA Primary Level Field Activities. Official mailing addresses are published as an appendix to DLA's compilation of systems of records notices.”

* * * * *

System manager(s) and address:

Delete entry and replace with “Director, DLA Public Affairs Office, Headquarters, Defense Logistics Agency, 8725 John J. Kingman Road, Stop 2533, Fort Belvoir, VA 22060-6221, and the Heads of the Public Affairs Offices within each DLA Primary Level Field Activity. Official mailing addresses are published as an appendix to DLA's compilation of systems of records notices.”

Notification procedure:

Delete entry and replace with “Individuals seeking to determine whether this system of records contains information about themselves should address written inquiries to the DLA FOIA/Privacy Act Office, Headquarters, Defense Logistics Agency, ATTN: DGA, 8725 John J. Kingman Road, Suite 1644, Fort Belvoir, VA 22060-6221.

Written inquiry must contain the subject individual's full name and current mailing address to permit locating the record.”

Record access procedure:

Delete entry and replace with “Individuals seeking access to information about themselves contained in this system of records should address written inquiries to the DLA FOIA/Privacy Act Office, Headquarters, Defense Logistics Agency, ATTN: DGA, 8725 John J. Kingman Road, Suite 1644, Fort Belvoir, VA 22060-6221.

Written inquiry must contain the subject individual's full name and current mailing address to permit locating the record.”

Contesting record procedures:

Delete entry and replace with “The DLA rules for accessing records, for contesting contents and appealing initial agency determinations are contained in 32 CFR part 323, or may be obtained from the DLA FOIA/Privacy Act Office, Headquarters, Defense Logistics Agency, ATTN: DGA, 8725 John J. Kingman Road, Suite 1644, Fort Belvoir, VA 22060-6221.”

* * * * *

S190.32

System name:

Public Affairs Subscription Mailing Lists.

System location:

Headquarters, Defense Logistics Agency (DLA), Public Affairs Office, 8725 John J. Kingman Road, Stop 2533, Fort Belvoir, VA 22060-6221, and the Public Affairs Offices of the DLA Primary Level Field Activities. Official mailing addresses are published as an appendix to DLA's compilation of systems of records notices.

Categories of individuals covered by the system:

Individuals and organizations who have registered with DLA Public Affairs Offices to automatically receive magazines, newsletters, periodicals and other professional publications.

Categories of records in the system:

Records maintained include individual's name, home or business telephone number, e-mail and mailing addresses, customer number, and publication(s) of interest.

Authority for maintenance of the system:

5 U.S.C. 301, Departmental Regulations, and 10 U.S.C. 133, Under Secretary of Defense for Acquisition, Technology, and Logistics.

Purpose(s):

The system is used to produce subscription mailing lists for distribution of DLA publications, and to perform statistical analyses of reader interest and opinion.

Routine uses of records maintained in the system, including categories of users and the purposes of such uses:

In addition to those disclosures generally permitted under 5 U.S.C. 552a(b) of the Privacy Act of 1974, these records contained therein may specifically be disclosed outside the DOD as a routine use pursuant to 5 U.S.C. 552a(b)(3) as follows:

The DoD “Blanket Routine Uses” apply to this system of records.

Policies and practices for storing, retrieving, accessing, retaining, and disposing of records in the system:

Storage:

Records are maintained on electronic storage media.

Retrievability:

Records are retrieved by individual's name and address.

Safeguards:

Access is limited to those individuals who require the records for the performance of their official duties. Electronic records are maintained in buildings with controlled or monitored access. During non-duty hours, records are secured in locked or guarded buildings, locked offices, or guarded cabinets. The electronic records systems employ user identification and password or smart card technology protocols.

Retention and disposal:

Records are destroyed when superseded or obsolete whichever comes first.

System manager(s) and address:

Director, DLA Public Affairs Office, Headquarters, Defense Logistics Agency, 8725 John J. Kingman Road, Stop 2533, Fort Belvoir, VA 22060-6221, and the Heads of the Public Affairs Offices within each DLA Primary Level Field Activity. Official mailing addresses are published as an appendix to DLA's compilation of systems of records notices.

Notification procedure:

Individuals seeking to determine whether this system of records contains information about themselves should address written inquiries to the DLA FOIA/Privacy Act Office, Headquarters, Defense Logistics Agency, ATTN: DGA, 8725 John J. Kingman Road, Suite 1644, Fort Belvoir, VA 22060-6221.

Written inquiry must contain the subject individual's full name and current mailing address to permit locating the record.

Record access procedure:

Individuals seeking access to information about themselves contained in this system of records should address written inquiries to the DLA FOIA/Privacy Act Office, Headquarters, Defense Logistics Agency, ATTN: DGA, 8725 John J. Kingman Road, Suite 1644, Fort Belvoir, VA 22060-6221.

Written inquiry must contain the subject individual's full name and current mailing address to permit locating the record.

Contesting record procedures:

The DLA rules for accessing records, for contesting contents and appealing initial agency determinations are contained in 32 CFR part 323, or may be obtained from the DLA FOIA/Privacy Act Office, Headquarters, Defense Logistics Agency, ATTN: DGA, 8725 John J. Kingman Road, Suite 1644, Fort Belvoir, VA 22060-6221.

Record source categories:

From the subject individual or the DLA organization publishing the document.

Exemptions claimed for system:

None.

[FR Doc. 2011-5914 Filed 3-14-11; 8:45 am]

BILLING CODE 5001-06-P